DEPARTMENT OF TRANSPORTATION

Federal Aviation Administration

Availability of Final Environmental (EA) and Draft Finding of No Significant Impact (FONSI)/Record of Decision (ROD) For Toledo Express Airport, Toledo, OH

AGENCY: Federal Aviation Administration, DOT.

ACTION: Notice of availability of documents and soliciting comments.

SUMMARY: The Federal Aviation Administration (FAA) is issuing this notice to advise the public of the availability of a Final EA and a Draft FONSI/ROD. This EA contains a scaled-back version of a portion of projects from an earlier Draft Environmental Impact Statement (DEIS). The DEIS was initiated in 1996/1997 to assess air traffic noise abatement measures from the 1998 FAR Part 150 Study Update, the development and operation of a second air cargo hub, and aviation-related industrial development.

Interested parties are invited to submit comments on the Final EA and the Draft FONSI/ROD. Based on the information received, the FAA will make a determination whether to approve the Draft FONSI/ROD for the proposed development at Toledo Express Airport or prepare a new Environmental Impact Statement (EIS) on the proposed development.

FOR FURTHER INFORMATION CONTACT: Ernest P. Gubry, Federal Aviation Administration, Detroit Airports District Office, Willow Run Airport, East, 8820 Beck Road, Belleville, Michigan 48111, 734-487-7280.

SUPPLEMENTARY INFORMATION: The FAA accepted a Final EA for the development depicted on the Airport Layout Plan (ALP) for Toledo Express Airport on June 26, 2001.

The development included:

1. Construction of a 1,159,365 square foot cargo aircraft-parking apron.

2. Construction of two buildings totaling 400,000 square feet housing the Perishable Preparation Center and Dry Freight Sort Facility.

3. Construction of an entrance road.

4. Construction of out buildings

5. Construction of a vehicle parking lot.

This EA contains a scaled-back version of a portion of projects from an earlier Draft Environmental Impact Statement (DEIS). The DEIS assessed air traffic noise abatement measures from the 1998 FAR Part 150 Study Update, the development and operation of a second air cargo hub, and aviation-related industrial development.

The FAA issued a Federal Register notice on June 27, 1996 announcing its intent to prepare an Environmental Impact Statement and to hold a public scoping meeting on August 6, 1996. The FAA issued a subsequent Federal Register notice on February 2, 1999, announcing the availability of a DEIS for public review and comment and that a Public Hearing would be held on March 10, 1999 to receive public comments concerning the social, economic, and environmental effects of the proposed actions.

The DEIS public hearing raised concerns about the need for cargo related development and the fact that at the time, the Toledo-Lucas County Port Authority (TLCPA) did not have a tenant. However, TLCPA has identified a tenant for a portion of the Southwest Quadrant as proposed in this EA. Questions were also raised about purpose and need and alternatives; and impacts to threatened and endangered species, air quality, Section 4(f) resources, archaeological resources and wetlands. For the development proposed in the EA these issues have been addressed. A subsequent Ohio Environmental Protection Agency Section 401 Public Hearing was held on March 28, 2000.

The Draft Environmental Assessment was distributed to the agencies and the FAA was involved with agency consultation and coordination at the federal and state levels. Comments on the Proposed Project included concerns about impacts to threatened and endangered species, streams, and wetlands. The Section 404 permit was issued. These issues have been addressed in the EA were appropriate and in addition, a response to comments has been prepared.

Because the second air cargo hub and other aviation-related industrial developments proposed in the earlier DEIS are neither reasonably foreseeable nor ripe for review at this time, an Environmental Assessment was initiated by TLCPA to independently assess the potential impacts associated with construction and operation of a proposed Perishable Preparation Center and Dry Freight Sort Facility, aircraft parking apron, entrance road and related airport improvements in the southwest quadrant of the airport. The site of this proposed facility (73 acres) was included in a portion of the land identified for the larger development projects proposed in the earlier Draft Environmental Impact Statement (DEIS) prepared by the FAA.

For purposes of disclosure it should be noted that the remainder of the Southwest Quadrant site might be developed in the future for other aviation-related industrial uses. However, to date no other future development plans have been prepared for this site and no other tenants have been identified. Any development plans for the possible development in the remainder of the Southwest Quadrant site in the future are not discussed in this EA. All future development would require an additional environmental review that would include a discussion of cumulative impacts of the project assessed under this EA. Any other actions considered in the 1999 DEIS also would be subject to separate environmental review if they become ripe for decision at a later date.

The Proposed Project assessed in this EA has independent utility from the air traffic noise abatement measures, the development and operation of a second air cargo hub, and other aviation-related industrial development assessed in the earlier DEIS. No further development of the Southwest Quadrant would be needed to support the development project proposed in this EA. Likewise the proposed Perishables Preparation Center and Dry Freight Sort Facility would not prevent any other future airport development at this site.

Additionally for purposes of disclosure it should also be noted that the air traffic noise abatement measures may also be considered for implementation at a future date. However, they are not assessed in the EA and are not considered for approval in the FONSI/ROD. Prior to their being considered for approval, they would be subject to environmental reevaluation. The reevaluation would include a discussion of the cumulative impacts of the projects assessed in this EA.

The EA includes an assessment of cumulative noise impacts for these projects. The noise impacts from this EA and air traffic noise abatement measures assessed in the 1999 Draft EIS were used to determine if significant increases in noise were likely to occur with the implementation of both projects. It was determined that there would be no significant cumulative noise impacts with the implementation of these projects. This finding is based on the determination that the incremental growth in cargo operations forecast in the 1999 EIS noise analysis sufficiently encompassed the addition of 18 operations per week proposed by the Project in this EA. This is further bolstered by the fact that existing cargo operations are not meeting forecast levels (down 22 percent in 2001 from 2000 levels). The EA also disclosed the cumulative impacts for the other NEPA categories.

Based on the analysis presented in the Environmental Assessment, it is determined that there is no practicable alternative to the proposed construction in wetlands and that the proposed action included all practicable measures to minimize harm to wetland which may result from such uses. TLCPA has developed and will implement a wetland mitigation plan that was found to be acceptable to the State of Ohio and the United States Army Corps of Engineers.

The Draft Environmental Assessment was distributed and the FAA was involved with agency consultation and coordination at the federal and state levels. Additionally, on March 28, 2000, the State of Ohio, Environmental Protection Agency held a public hearing for the issuance of a 401 wetland permit that was need for construction of the project. On August 28, 2000 the OEPA issued the Section 401 Water Quality Certification, conditional upon approval of the wetlands mitigation plan. The U.S. Army Corps of Engineers issued a validated Section 404 permit on September 11, 2000, The required mitigation plan has been approved.

The Section 404 validated permit stipulates that wetland mitigation must include on-site creation of appropriate wetland habitat to support state threatened and endangered plant species that would be lost through the construction of the Proposed Project. The on-site mitigation must include a wild lupine (Lupinus perennie) that is part of the life cycle for the Karner blue butterfly (Lycacides melissa). No other Federally listed species would be impacted by the Proposed Project.

The TLCPA will be required to implement the mitigation measures identified in the Draft FONSI/ROD as a condition of environmental approval for the proposed development/action items listed above to support existing and proposed aeronautical activities at the airport.

The purpose of this notice is to provide the public an opportunity to submit information to the FAA prior to its reaching a decision on this matter.

In accordance with 40 CFR 1501.4(c) of the Council on Environmental Quality, there will be a thirty (30) day comment period before the FAA makes its final determination on the FONSI/ROD. Interested individuals, government agencies, and private organizations are invited to send comments on the Draft FONSI/ROD to the address set forth above. Absent receipt of additional substantive information on environmental impacts the FAA anticipates that it will sign the Draft FONSI/ROD thirty days after this notice appears in the Federal Register.

The Final EA and supporting documents and the Draft FONSI/ROD may be viewed duing normal business hours at the following locations:

Airport Manager's Office, Toledo Express Airport, 11013 Airport Highway Swanton, Ohio 43558.

Toledo-Lucas County Public Library, 1032 South McCord Road Holland, Ohio 43528.

Swanton Public Library, 305 Chestnut Street, Swanton, Ohio 43558.

Federal Aviation Administration, Detroit Airports, District Office, Willow Run Airport, east, 8820 Beck Road, Belleville, Michigan 48111.

Questions may be directed to the individual named above under the heading, FOR FURTHER INFORMATION CONTACT.

Issued in Des Plaines, Illinois, on June 26, 2001.
Barry D. Cooper,
Acting Manager, Airports Division, FAA, Great Lakes Region.

[FR Doc. 01-16606 Filed 6-29-01; 8:45 am]

BILLING CODE 4910-13-M